INTERNATIONAL TRADE COMMISSION

[Investigation No. 1205-13]

Recommended Modifications in the Harmonized Tariff Schedule, 2020

AGENCY: U.S. International Trade Commission.

ACTION: Notice of proposed recommendations and solicitation of public comments.

SUMMARY: On October 1, 2019, the U.S. International Trade Commission (Commission) instituted Investigation No. 1205-13, Recommended Modifications in the Harmonized Tariff Schedule, 2020. The Commission's proposed recommendations relating to Investigation No. 1205-13 have been posted on the Commission website. Interested Federal agencies and the public are invited to submit written comments on the proposed recommendations by December 14, 2020.

DATES:

November 16, 2020: Posting of the Commission's proposed recommendations on the Commission's website.

December 14, 2020: Interested Federal agencies and the public may file written views with the Commission on the Commission's proposed recommendations.

March 2021 (actual date to be announced later): Transmittal of the Commission's report to the President.

ADDRESSES: All Commission offices, including the Commission's hearing rooms, are located in the United States International Trade Commission Building, 500 E Street SW, Washington, DC. All written submissions should be addressed to the Secretary to the Commission, U.S. International Trade Commission, 500 E Street SW, Washington, DC 20436. The public record for this investigation may be viewed on the Commission's Electronic Docket Information System (EDIS) at https://edis.usitc.gov.

FOR FURTHER INFORMATION CONTACT: Daniel P. Shepherdson, Attorney-Advisor, Office of Tariff Affairs and Trade Agreements ((202) 205-2598, or Daniel.Shepherdson@usitc.gov) or Vanessa Lee, Nomenclature Analyst, Office of Tariff Affairs and Trade Agreements ((202) 205-2053, or Vanessa.Lee@usitc.gov). The media should contact Margaret O'Laughlin, Office of External Relations ((202) 205-1819, or Margaret.OLaughlin@usitc.gov). Hearing-impaired individuals may obtain information on this matter by contacting the Commission's TDD terminal at 202-205-1810. General information about the Commission is available by accessing the Commission website at https://www.usitc.gov/. Persons with mobility impairments who will need special assistance in gaining access to the Commission should contact the Office of the Secretary at (202) 205-2000.

Background: Section 1205(a) of the Omnibus Trade and Competitiveness Act of 1988 (the 1988 Act) (19 U.S.C. 3005(a)) requires that the Commission keep the Harmonized Tariff Schedule of the United States (HTS) under continuous review and periodically recommend to the President such modifications in the HTS as the Commission considers necessary or appropriate to conform the HTS with amendments made to the International Convention on the Harmonized Commodity Description and Coding System (Convention), which contains the Harmonized System nomenclature in the Annex to the Convention.

On June 28, 2019, the World Customs Organization (WCO) adopted recommended amendments to the Harmonized System nomenclature that are scheduled to enter into force on January 1, 2022. The Commission has posted a copy of the WCO amendments on its website at https://usitc.gov/harmonized_tariff_information. On October 1, 2019, the Commission instituted Investigation No. 1205-13 to prepare such modifications in the HTS as it considers necessary or appropriate to conform the HTS with such amendments to the Harmonized System.

As part of this investigation, the Commission will also consider whether it is necessary or appropriate to recommend a modification to the HTS nomenclature for blanched peanuts to conform the HTS with a 2018 opinion of the WCO's Harmonized System Committee, which classified certain blanched peanuts in heading 1202 of the Harmonized System. Prior to the WCO opinion, Customs and Border Protection (CBP) has classified blanched peanuts in heading 2008 based in part on an HTS subheading in chapter 20 that provided for blanched peanuts.

An up-to-date copy of the HTS, which incorporates the Harmonized System in its overall structure, is available on the Commission's website at https://hts.usitc.gov/current.

Proposed Recommendations, Opportunity To Comment: The Commission's proposed recommendations relating to Investigation No. 1205-13 have been posted on the Commission website at https://www.usitc.gov. Interested Federal agencies and the public are invited to submit written comments on the proposed recommendations by December 14, 2020. To assist the public in understanding the proposed changes and in developing comments, the Commission has included, with the proposed recommendations, a non-authoritative concordance tables linking the proposed tariff codes to the corresponding current tariff codes. Persons using the concordance tables should be aware that the cross-references shown are subject to change during the course of the investigation.

Written Submissions: Interested Federal agencies and the public are invited to file written submissions concerning the proposed recommendations. All written submissions should be addressed to the Secretary, and should be received not later than 5:15 p.m., December 14, 2020. All written submissions must conform with the provisions of § 201.8 of the Commission's Rules of Practice and Procedure (19 CFR 201.8). Section 201.8 and the Commission's Handbook on Filing Procedures require that interested parties file documents electronically on or before the filing deadline. Submissions should refer to the docket number (“Docket No. 1205-013”) in a prominent place on the cover page and/or the first page. (See Handbook for Electronic Filing Procedures, Electronic Filing Procedures). Persons with questions regarding filing should contact the Secretary (202-205-2000).

Any submissions that contain confidential business information (CBI) must also conform with the requirements of § 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties. The Commission may include some or all of the confidential business information submitted in the course of this investigation in the report it sends to the President and the U.S. Trade Representative. The Commission will not otherwise publish any confidential business information in a manner that would reveal the operations of the firm supplying the information.

Recommendations to the President: After considering written public comments, the Commission will submit its recommended modifications to the President in the form of a report that will include a summary of the information on which the recommendations were based, together with a statement of the probable economic effect of each recommended change on any industry in the United States. The report also will include a copy of all written views submitted by interested Federal agencies and a copy or summary, prepared by the Commission, of the views of all other interested parties. The Commission expects to submit that report in March 2021.

By order of the Commission.
Issued: November 12, 2020.
Lisa Barton,
Secretary to the Commission.

[FR Doc. 2020-25305 Filed 11-16-20; 8:45 am]

BILLING CODE 7020-02-P